DEPARTMENT OF HEALTH AND HUMAN SERVICES

Food and Drug Administration

Request for Nominations for Members of Public Advisory Committee; Food Advisory Committee

AGENCY: Food and Drug Administration, HHS.

ACTION: Notice.

SUMMARY: The Food and Drug Administration (FDA) is requesting nominations for members to serve on the Food Advisory Committee (the Committee) in FDA's Center for Food Safety and Applied Nutrition. Nominations will be accepted for current vacancies and vacancies that will or may occur on the Committee during the next 12 months.

FDA has special interest in ensuring that women, minority groups, and the physically handicapped are adequately represented on advisory committees and, therefore, extends particular encouragement to nominations of appropriately qualified female, minority, or physically handicapped candidates. Final selection from among qualified candidates for each vacancy will be determined by the expertise required to meet specific agency needs and in a manner to ensure appropriate balance of membership.

DATES: August 28, 2000.

ADDRESSES: All nominations for membership should be sent to Catherine M. DeRoever (address below).

FOR FURTHER INFORMATION CONTACT: Regarding all nominations for membership: Catherine M. DeRoever, Center for Food Safety and Applied Nutrition (HFS-6), Food and Drug Administration, 200 C St. SW., Washington, DC 20204, 202-205-4251, FAX 202-205-4970.

SUPPLEMENTARY INFORMATION: FDA is requesting nominations for members to serve on the advisory committee listed below. Individuals should have expertise in the activity of the Committee. Vacancies will occur June 30, 2000.

Food Advisory Committee

The Committee provides advice primarily to the Director, Center for Food Safety and Applied Nutrition (CFSAN), and as needed, to the Commissioner of Food and Drugs, and other appropriate officials, on emerging food safety, food science, and nutrition, and other food-related issues that FDA considers of primary importance for its food and cosmetics program. The Committee may be charged with reviewing and evaluating available data and making recommendations on matters such as those relating to: (1) Broad scientific and technical food or cosmetic related issues; (2) the safety of new foods and food ingredients; (3) labeling of foods and cosmetics; (4) nutrient needs and nutritional adequacy; and (5) safe exposure limits for food contaminants. The Committee may also be asked to provides advice and makes recommendations on ways of communicating to the public the potential risks associated with these issues and recommends on approaches to that might be considered in for addressing them the issues.

The Committee has been restructured to consist of a “parent” Committee and four standing Subcommittees. The Subcommittees are as follows: (1) Additives and Ingredients; (2) Contaminants and Natural Toxicants; (3) Dietary Supplements; and (4) Food Biotechnology. The new Food Advisory Committee “parent”/Subcommittees structure was adopted because of the breadth of scientific disciplines needed to consider emerging food safety and nutrition related matters. Further, the new structure provides an expanded knowledge base from which to draw essential expertise in emerging and reemerging scientific areas. While the former structure of a single standing Committee was considered responsive to the needs of CFSAN and FDA when originally chartered in 1991, the increasing breadth of the scientific questions that must be addressed by CFSAN prompted the design of for the new structure.

The purpose of the Subcommittees is to provide highly specialized expertise in the review and analysis of assigned topics. As was the case of former ad hoc Subcommittees, meetings of the Subcommittees are expected to shall be open to the public in accordance with rules and regulations for advisory committee proceedings except as otherwise determined by the Commissioner or designee. Similarly, interactions between and among the “parent” Committee and the four Subcommittees, will be in accordance with rules and regulations for advisory committee proceedings established requirements. The Subcommittee's findings, conclusions, and recommendations will be reported to the “parent” Committee. As a general matter, included in this report will be a recommendation from the Subcommittee on final disposition of the assigned topic. Generally, matters that cut across the agency program areas would fall under the purview of the “parent” Committee. As a general rule, issues relating to the microbiological safety of food will be addressed by the National Advisory Committee on Microbiological Criteria for Foods.

Criteria for Members

Persons nominated for membership on the Committee shall be knowledgeable in the fields of physical sciences, biological and life sciences, food science, risk assessment and other relevant scientific and technical disciplines. The agency is particularly interested in considering candidates with a comprehensive background in food technology, molecular biology, genetics, biotechnology, and a variety of medical specialties, as many issues brought before the Committee involve medical or epidemiologic impact on nutrients, additives, contaminants, or other constituents of the diet, such as dietary supplements. The term of office is up to 4 years.

The Committee includes technically qualified members who are identified with consumer interests and representatives of industry interests.

Nomination Procedures

Interested persons may nominate one or more qualified persons for membership on the Committee. Nominations shall state that the nominee is willing to serve as a member of the Committee and appears to have no conflict of interest that would preclude Committee membership. Additionally, the nominee's mailing address, telephone number, and curriculum vitae must accompany the nomination. The agency cannot guarantee further consideration of nominations that do not include this requested information. Potential candidates will be asked by FDA to provide detailed information concerning such matters as financial holdings, employment, consultancies, and research grants and/or contracts to permit evaluation of possible sources of conflict of interest.

Industry Representatives

Regarding nominations for members representing industry interests, a letter will be sent to each person or organization that has made a nomination and to other organizations that have expressed an interest in participating in the selection process together with a complete list of all such organizations and the nominees. The letter will state that it is the responsibility of each nominator or organization that has expressed an interest in participating in the selection process to consult with the others to provide a consensus slate of possible members representing industry interests within 60 days. In the event that a slate of nominees has not been provided within 60 days, the agency will select an industry representative for each such vacancy from the entire list of industry nominees to avoid delay or disruption of the work of the Committee. The agency is particularly interested in nominees that possess the essential scientific credentials needed to participate fully and knowledgeably in the Committee's deliberations. In addition to this expertise, the agency believes that it would be an advantage to the Committee's work if the individual(s) had special insight and direct experience into specific industrywide issues, practices, and concerns that might not otherwise be available to others not similarly situated.

This notice is issued under the Federal Advisory Committee Act (5 U.S.C. app. 2) and 21 CFR part 14, relating to advisory committees.

Dated: July 21, 2000.
Linda A. Suydam,
Senior Associate Commissioner.

[FR Doc. 00-19096 Filed 7-27-00; 8:45 am]

BILLING CODE 4160-01-F